DEPARTMENT OF COMMERCE

National Oceanic and Atmospheric Administration

[I.D. 042600C]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Capacity Committee in May. Recommendations from the committee will be brought to the full Council for formal consideration and action, if appropriate.

DATES: The meeting will be held on May 18, 2000, at 10:00 a.m.

ADDRESSES: The meeting will be held at the New England Fishery Management Council Office, 50 Water Street—Mill 2, Newburyport, MA 01950; telephone: (978) 465-0492.

FOR FURTHER INFORMATION CONTACT: Paul J. Howard, Executive Director, New England Fishery Management Council (978) 465-0492.

SUPPLEMENTARY INFORMATION: The Committee will continue its exploration of fishing capacity issues. The Committee will discuss and continue to develop three proposals to reduce capacity by allow the transfer of fishing permits and/or days-at-sea allocations contingent on reductions of days-at-sea upon such transfers. Recommendations from the committee will be brought to the full Council for formal consideration and action, if appropriate.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 28, 2000.
Richard W. Surdi,
Acting Director, Office of Sustainable Fisheries, National Marine Fisheries Service.

[FR Doc. 00-11022 Filed 5-2-00; 8:45 am]

BILLING CODE 3510-22-F